DEPARTMENT OF THE INTERIOR

Fish and Wildlife Service

50 CFR Part 17

RIN 1018-AF92; RIN 1018-AF95

Endangered and Threatened Wildlife and Plants; Extension of Comment Periods and Notice of Availability of Draft Economic Analyses on Proposed Critical Habitat Determinations for the Spectacled Eider and Steller's Eider

AGENCY: Fish and Wildlife Service, Interior.

ACTION: Proposed rule; notice of extension of comment period and notice of availability of draft economic analyses.

SUMMARY: We, the U.S. Fish and Wildlife Service, announce the availability of draft economic analyses of the proposed designation of critical habitat for the spectacled eider (Somateria fischeri) and the Alaska-breeding population of the Steller's eider (Polysticta stelleri). We also provide notice that we are extending the comment periods on the proposals to allow all interested parties to submit written comments on the proposals and on the draft economic analyses. Comments previously submitted need not be resubmitted as they will be incorporated into the public records and will be fully considered in the final rule.

DATES: The comment periods for the proposed rules concerning spectacled eiders and Steller's eiders, which previously closed on August 31, 2000, now close on September 25, 2000. Comments from all interested parties must be received by the closing date. Any comments that are received after the closing date may not be considered in the final decision on these proposals.

ADDRESSES: Copies of the draft economic analyses are available on the Internet at “www.r7.fws.gov/es/te.html” or by contacting the U.S. Fish and Wildlife Service at the appropriate field office listed below. Submit written data or comments on the spectacled eider to the Field Supervisor, Ecological Services Field Office, Anchorage, U.S. Fish and Wildlife Service, 605 W. 4th Ave. Rm G-62, Anchorage, AK 99501; fax: 907/271-2786. Submit written data or comments on the Steller's eider to Ted Swem, Northern Alaska Ecological Services, 101 12th Ave., Rm 110, Fairbanks, AK 99701; fax 907/456-0208.

FOR FURTHER INFORMATION CONTACT: For the proposed rule and economic analysis concerning spectacled eiders, contact Ann G. Rappoport, Field Supervisor, Ecological Services Field Office, Anchorage at the above address, phone: 907/271-2787 or toll-free 800/272-4174; fax: 907/271-2786. For the proposed rule and economic analysis concerning Steller's eiders, contact Ted Swem, Endangered Species Branch, at Northern Alaska Ecological Services at the above address, phone: 907/456-0441; fax: 907/456-0208.

SUPPLEMENTARY INFORMATION:

Background

The spectacled eider is a large seaduck found in marine waters and coastal areas from the Nushagak Peninsula of southwestern Alaska north to Barrow and east nearly to the Canadian Border. The species is threatened by habitat degradation, lead poisoning, increased predation rates, and hunting and other human disturbance. The Steller's eider is a seaduck found in coastal and marine waters from the eastern Aleutian Islands around the western and northern coasts of Alaska to the Canada border. The Alaska-breeding population of this species is thought to have decreased significantly, but the causes of the suspected decline are unknown. On February 8, 2000, the Service published a proposed rule (65 FR 6114) to designate critical habitat for the spectacled eider, and on March 13, 2000, the Service published a proposed rule (65 FR 13262) to designate critical habitat for the Alaska-breeding population of the Steller's eider.

Section 4(b)(2) of the Act requires that we designate or revise critical habitat based upon the best scientific data available and after taking into consideration the economic impact of specifying any particular area as critical habitat. We may exclude an area from critical habitat if we determine that the benefits of excluding the area outweigh the benefits of including the area as critical habitat, provided such exclusion will not result in the extinction of the species. Based upon the previously published proposals to designate critical habitat for the spectacled eider and Steller's eider and comments previously received during the comment periods, we have conducted a draft economic analysis of the proposed critical habitat designations.

The comment period for the proposed rule designating critical habitat for spectacled eiders originally closed on May 8, 2000. The comment period for the proposed rule designating critical habitat for Steller's eiders originally closed on May 12, 2000. We subsequently extended the comment periods for both species to June 30, 2000, in response to concerns expressed by several parties that the original comment periods did not allow adequate time for review and comment by affected individuals and communities. Additionally, we anticipated that the comment periods for the economic analyses associated with the proposed critical habitat designations would be open during June 2000, and we wished to solicit comments on the proposed rules and their respective economic analyses simultaneously. The development of the economic analyses for the proposed critical habitat designations was unexpectedly delayed, and we subsequently extended the comment periods through August 31, 2000, with the expectation that the economic analyses would be available by August 1, 2000.

We solicit comments on the draft economic analysis as described in this notice, as well as any other aspect of the proposed designation of critical habitat for the spectacled eider and Steller's eider. Our final determination on the proposed critical habitat will take into consideration comments and any additional information received by the date specified above. All previous comments and information submitted during the comment period need not be resubmitted. The comment period is extended to September 25, 2000. Written comments may be submitted to the appropriate Service office as specified in the ADDRESSES section.

Our practice is to make comments, including names and home addresses of respondents, available for public review during regular business hours. Individual respondents may request that we withhold their home address from the rulemaking record, which we will honor to the extent allowable by law. In certain circumstances, we would withhold from the rulemaking record a respondent's identity, as allowable by law. If you wish for us to withhold your name and/or address, you must state this request prominently at the beginning of your comment. However, we will not consider anonymous comments. We will make all submissions from organizations or businesses, and from individuals identifying themselves as representatives or officials of organizations or businesses, available for public inspection in their entirety.

The deadline for requesting public hearings on the proposed rule regarding critical habitat for the spectacled eider was March 24, 2000. The deadline for requesting public hearings for the proposed rule regarding critical habitat for Steller's eider was April 27, 2000. We have not extended these deadlines. In order to be considered valid, requests for public hearings must have been submitted in writing and received at the appropriate office by the relevant deadline.

Author

The primary author of this notice is Susan Detwiler, U.S. Fish and Wildlife Service, Division of Endangered Species, 1011 E. Tudor Rd., Anchorage, AK 99503.

Authority

The authority for this action is the Endangered Species Act of 1973 (16 U.S.C. 1531 et seq.).

Dated: August 16, 2000.
Gary Edwards,
Acting Regional Director, Region 7, Fish and Wildlife Service.

[FR Doc. 00-21589 Filed 8-23-00; 8:45 am]

BILLING CODE 4310-55-P